SMALL BUSINESS ADMINISTRATION

Notice Seeking Exemption Under Section 312 of the Small Business Investment Act, Conflicts of Interest; Alliance Enterprise Corporation License No. 03/03-5066

Notice is hereby given that Alliance Enterprise Corporation, 2435 North Central Expressway, Suite 200, Richardson, TX 75080, a Federal Licensee under the Small Business Investment Act of 1958, as amended (“the Act”), in connection with the financing of a small concern, has sought an after-the-fact exemption under Section 312 of the Act and Section 107.730, Financings which Constitute Conflicts of Interest of the Small Business Administration (“SBA”) Rules and Regulations (13 CFR 107.730). Alliance Enterprise Corporation provided a $500,000 loan to M68 Technologies, Inc. (M68) on May 20, 2005.

The financing is brought within the purview of § 107.730(a)(1) of the Regulations because M68 is an Associate of Alliance Enterprise Corporation, inasmuch as sister SBIC MESBIC Ventures, Inc. had previously invested in M68 and owned 51.5 percent of the common stock. MESVIC Ventures, Inc. and Alliance Enterprise Corporation are associates of each other since they are under common control in accordance with the definition contained in Section 107.50(4) of the Regulations. Both SBICs are wholly-owned by Pacesetter/MVHC, Inc.

Notice is hereby given that any interested person may submit written comments on the transaction to the Associate Administrator for Investment, U.S. Small Business Administration, 409 Third Street, SW., Washington, DC 20416.

Dated: October 31, 2006.
Jaime Guzman-Fournier,
Acting Associate Administrator for Investment.

[FR Doc. E6-21983 Filed 12-21-06; 8:45 am]

BILLING CODE 8025-01-P